DEPARTMENT OF TRANSPORTATION

Federal Aviation Administration

14 CFR Part 71

[Docket No. FAA-2010-1189; Airspace Docket No. 10-AWP-19]

Amendment of Class E Airspace; Taylor, AZ

AGENCY: Federal Aviation Administration (FAA), DOT.

ACTION: Final rule.

SUMMARY: This action will amend Class E airspace at Taylor Airport, Taylor, AZ, to accommodate aircraft using the CAMBO One Departure, and the Area Navigation (RNAV) standard instrument approach procedures at Taylor Airport. This will improve the safety and management of Instrument Flight Rules (IFR) operations at the airport. This action also corrects the airport names to Taylor Airport, and Show Low Regional Airport, respectively. Additionally, the geographic coordinates for Taylor Airport will be adjusted.

DATES: Effective date, 0901 UTC, June 30, 2011. The Director of the Federal Register approves this incorporation by reference action under 1 CFR part 51, subject to the annual revision of FAA Order 7400.9 and publication of conforming amendments.

FOR FURTHER INFORMATION CONTACT: Eldon Taylor, Federal Aviation Administration, Operations Support Group, Western Service Center, 1601 Lind Avenue, SW., Renton, WA 98057; telephone (425) 203-4537.

SUPPLEMENTARY INFORMATION:

History

On January 20, 2011, the FAA published in the Federal Register a notice of proposed rulemaking to amend controlled airspace at Taylor, AZ (76 FR 3570). Interested parties were invited to participate in this rulemaking effort by submitting written comments on the proposal to the FAA. No comments were received. Subsequent to publication, the FAA found the geographic coordinates for Taylor Airport needed to be adjusted to coincide with the FAA's aeronautical database. This action makes the adjustment. Also, the airport names have been changed: Taylor Municipal Airport to Taylor Airport, and Show Low Municipal Airport to Show Low Regional Airport. With the exception of editorial changes, and the changes described above, this rule is the same as that proposed in the NPRM.

Class E airspace designations are published in paragraph 6005 of FAA Order 7400.9U dated August 18, 2010, and effective September 15, 2010, which is incorporated by reference in 14 CFR Part 71.1. The Class E airspace designations listed in this document will be published subsequently in that Order.

The Rule

This action amends Title 14 Code of Federal Regulations (14 CFR) Part 71 by modifying Class E airspace extending upward from 700 feet above the surface at Taylor Airport, Taylor, AZ, to accommodate IFR aircraft using the CAMBO One Departure, and the RNAV standard instrument approach procedures at the airport. This action is necessary for the safety and management of IFR operations. The geographic coordinates for Taylor Airport will be adjusted to coincide with the FAA's aeronautical database. Also, Taylor Municipal Airport has been renamed Taylor Airport and Show Low Municipal Airport has been renamed Show Low Regional Airport.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace at Taylor Airport, Taylor, AZ.

List of Subjects in 14 CFR Part 71

Airspace, Incorporation by reference, Navigation (air).

Adoption of the Amendment

In consideration of the foregoing, the Federal Aviation Administration amends 14 CFR Part 71 as follows:

PART 71—DESIGNATION OF CLASS A, B, C, D AND E AIRSPACE AREAS; AIR TRAFFIC SERVICE ROUTES; AND REPORTING POINTS

1. The authority citation for 14 CFR Part 71 continues to read as follows:

Authority: 49 U.S.C. 106(g), 40103, 40113, 40120; E.O. 10854, 24 FR 9565, 3 CFR, 1959-1963 Comp., p. 389.

§ 71.1 [Amended]

2. The incorporation by reference in 14 CFR Part 71.1 of the Federal Aviation Administration Order 7400.9U, Airspace Designations and Reporting Points, dated August 18, 2010, and effective September 15, 2010 is amended as follows:

Paragraph 6005 Class E airspace areas extending upward from 700 feet or more above the surface of the earth.

* * * * *

AWP AZ E5 Taylor, AZ [Modified]

Taylor Airport, AZ

(Lat. 34°27′10″ N., long. 110°06′54″ W.)

Show Low Regional Airport, AZ

(Lat. 34°15′56″ N., long. 110°00′20″ W.)

That airspace extending upward from 700 feet above the surface within a 6.5-mile radius of the Taylor Airport, excluding the portion within the Show Low, AZ, Class E airspace area. That airspace extending upward from 1,200 feet above the surface within an area bounded by lat. 34°27′10″ N., long. 110°06′53″ W.; to lat. 34°32′14″ N., long. 110°14′37″ W.; to lat. 34°37′13″ N., long. 110°09′11″ W.; to lat. 34°52′00″ N., long. 110°28′00″ W.; to lat. 34°54′42″ N., long. 110°25′00″ W.; to lat. 34°39′34″ N., long. 109°45′20″ W.; to lat. 34°24′00″ N., long. 110°01′40″ W.; to point of beginning.

Issued in Seattle, Washington, on March 21, 2011.
Christine Mellon,
Acting Manager, Operations Support Group, Western Service Center.

[FR Doc. 2011-7839 Filed 4-1-11; 8:45 am]

BILLING CODE 4910-13-P